DEPARTMENT OF STATE

[Public Notice Number 6844]

Overseas Schools Advisory Council Notice of Meeting

The Overseas Schools Advisory Council, Department of State, will hold its Executive Committee Meeting on Thursday, January 21, 2010, at 9:30 a.m. in Conference Room 1107, Department of State Building, 2201 C Street, NW., Washington, DC. The meeting is open to the public and will last until approximately 12 p.m.

The Overseas Schools Advisory Council works closely with the U.S. business community in improving those American-sponsored schools overseas that are assisted by the Department of State and attended by dependents of U.S. Government families and children of employees of U.S. corporations and foundations abroad.

This meeting will deal with issues related to the work and the support provided by the Overseas Schools Advisory Council to the American-sponsored overseas schools. The agenda includes a review of the projects selected for the 2008 and 2009 Educational Assistance Program, which are under development, and an address by Dr. Thelma Melendez, Assistant Secretary for Elementary and Secondary Education, U.S. Department of Education, on education matters in the United States.

Members of the public may attend the meeting and join in the discussion, subject to the instructions of the Chair. Admittance of public members will be limited to the seating available. Access to the State Department is controlled, and individual building passes are required for all attendees. Persons who plan to attend should so advise the office of Dr. Keith D. Miller, Department of State, Office of Overseas Schools, Room H328, SA-1, Washington, DC 20522-0132, telephone 202-261-8200, prior to January 11, 2010. Each visitor will be asked to provide his/her date of birth and either driver's license or passport number at the time of registration and attendance, and must carry a valid photo ID to the meeting. Any requests for reasonable accommodation should be made at the time of registration. All such requests will be considered, however, requests made after January 11th might not be possible to fill. All attendees must use the C Street entrance to the building.

Dated: December 18, 2009.
Keith D. Miller,
Executive Secretary, Overseas Schools Advisory Council.

[FR Doc. E9-31107 Filed 12-31-09; 8:45 am]

BILLING CODE 4710-24-P